ENVIRONMENTAL PROTECTION AGENCY

[EPA-HQ-OPP-2009-0503; FRL-8427-2]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel their registrations of products containing the pesticides disulfoton and methamidophos. The requests would terminate the last disulfoton and methamidophos products registered for use in the United States. EPA intends to grant these requests at the close of the comment period for this announcement unless the Agency receives substantive comments within the comment period that would merit its further review of the requests, or unless the registrants withdraw their requests within this period. Upon acceptance of these requests, any sale, distribution, or use of products listed in this notice will be permitted only if such sale, distribution, or use is consistent with the terms as described in the final order.

DATES: Comments must be received on or before August 21, 2009.

ADDRESSES: Submit your comments, identified by docket identification (ID) number: Disulfoton - EPA-HQ-OPP-2009-0054; Methamidophos - EPA-HQ-OPP-2008-0842, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0054 for disulfoton and to docket ID number EPA-HQ-OPP-2009-0842 for methamidophos. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT:

Product Manager | Pesticide | Office location for mail and Special Courier | Telephone Number | Email Address
Eric Olson | Methamidophos | Special Review and Registration Division, Office of Pesticide Programs, Environmental Protection Agency 1200 Pennsylvania Ave., NW., Washington, DC 20460-0001 | (703) 308-8067 | olson.eric@epa.gov
Eric Miederhoff | Disulfoton | Special Review and Registration Division, Office of Pesticide Programs, Environmental Protection Agency 1200 Pennsylvania Ave., NW., Washington, DC 20460-0001 | (703) 347-8028 | miederhoff.eric@epa.gov

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background on the Receipt of Requests to Cancel Registrations

This notice announces receipt by EPA of requests from registrants Bayer CropScience, Bayer Environmental Science, Bayer Advanced (these registrants are collectively referred to henceforth as “Bayer”), and Amvac Chemical to cancel six disulfoton Section-3 product registrations, five methamidophos Section-3 product registrations, thirteen disulfoton Special Local Need registrations, and seventeen methamidophos Special Local Need registrations. Disulfoton is an organophosphate insecticide registered for use on asparagus, beans, broccoli, Brussels sprouts, cabbage, cauliflower, cotton, coffee beans, lettuce, radish grown for seed, Christmas trees, Easter lilies, and residential ornamentals. Methamidophos is an organophosphate insecticide registered for the control of a broad spectrum of insects on cotton, potato, tomato, and alfalfa grown for seed. Bayer will amend its product registrations by terminating the use of methamidophos on cotton as of September 30, 2009. Existing stocks labeled for use on cotton may be sold and distributed by persons other than the registrant until July 31, 2010. Existing stocks labeled for use on cotton may be used until September 30, 2010, provided that such use complies with the EPA-approved label and labeling of the product.

In letters dated June 16, 2009 and June 18, 2009, Bayer requested EPA cancel its remaining methamidophos and disulfoton pesticide product registrations identified in Table 1 of this notice. In a letter dated May 5, 2009, Amvac Chemical Corp. requested EPA cancel its disulfoton pesticide product registration identified in Table 1 of this notice. Cancelling these pesticide products will result in the termination of all remaining disulfoton and methamidophos products registered for use in the United States.

III. What Action is the Agency Taking?

This notice announces receipt by EPA of requests from registrants to cancel disulfoton and methamidophos product registrations. The affected products and the registrants making the requests are identified in Tables 1 and 2 of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The disulfoton and methamidophos registrants have requested that EPA waive the 180-day comment period. EPA will provide a 30-day comment period on the proposed requests.

Unless a request is withdrawn by the registrant within 30-days of publication of this notice, or if the Agency determines that there are substantive comments that warrant further review of this request, an order will be issued canceling the affected registrations.

Table 1.—Disulfoton and Methamidophos Product Registrations with Pending Requests for Cancellation
Registration Number | Product Name | Active Ingredient
264-723 | Di-Syston 15% Granular | Disulfoton
264-725 | Disulfoton Technical | Disulfoton
264-729 | Monitor 4 | Methamidophos
264-734 | Disulfoton 8 Emulsifiable Systemic Insecticide | Disulfoton
264-741 | Monitor Technical | Methamidophos
264-744 | Monitor 60% Concentrate | Methamidophos
264-1020 | Monitor 4 Spray | Methamidophos
264-1021 | Valent Monitor Technical | Methamidophos
432-1286 | Systemic 2 in 1 Rose Care 10-10-10 Rose Food with Insecticide | Disulfoton
5481-8989 | Terraclor Super-X Soil Fungicide With Di-Syston | Disulfoton
72155-49 | Flower Rose and Shrub Care | Disulfoton
AR970004 | Monitor 4 | Methamidophos
CA050010 | Di- Syston 8 Emulsifiable Systemic Insecticide | Disulfoton
CA780163 | Monitor 4 | Methamidophos
CA810044 | Di- Syston 8 Emulsifiable Systemic Insecticide | Disulfoton
CA840192 | Di- Syston 8 Emulsifiable Systemic Insecticide | Disulfoton
CA980013 | Monitor 4 | Methamidophos
DE910002 | Monitor 4 | Methamidophos
FL800046 | Monitor 4 | Methamidophos
FL900003 | Monitor 4 | Methamidophos
GA900001 | Monitor 4 | Methamidophos
IN790001 | Monitor 4 | Methamidophos
LA040011 | Monitor 4 Liquid Insecticide | Methamidophos
MD910009 | Monitor 4 | Methamidophos
MI060002 | Di- Syston 8 Emulsifiable Systemic Insecticide | Disulfoton
NC860005 | Di- Syston 8 Emulsifiable Systemic Insecticide | Disulfoton
NC880001 | Di-Syston 15% Granular | Disulfoton
NC890007 | Monitor 4 | Methamidophos
NC920011 | Di-Syston 15% Granular | Disulfoton
NJ960010 | Monitor 4 | Methamidophos
OH790008 | Monitor 4 | Methamidophos
OR040030 | Di- Syston 8 Emulsifiable Systemic Disulfoton Insecticide | Disulfoton
OR050024 | Di-Syston Disulfoton 8 Emulsifiable Systemic Insecticide | Disulfoton
SC780007 | Monitor 4 Liquid Insecticide | Methamidophos
TN060002 | Monitor 4 Liquid Insecticide | Methamidophos
TX910016 | Monitor 4 | Methamidophos
VA910005 | Monitor 4 | Methamidophos
TX860007 | Di-Syston 8 Emulsifiable Systemic Insecticide | Disulfoton
WA040015 | Di-Syston 8 Emulsifiable Systemic Insecticide | Disulfoton
WA040028 | Di-Syston 15% Granular | Disulfoton
WA920026 | Di-Syston 8 Emulsifiable Systemic Insecticide | Disulfoton

Table 2 of this unit includes the names and addresses on record for the registrants of the products listed in Table 1 of this unit.

Table 2.—Registrants Requesting Voluntary Cancellation
EPA Company Number | Company Name and Address
264 | Bayer CropScience, 2 T.W. Alexander Drive Research Triangle Park, North Carolina 27709
432 | Bayer Environmental Science, 2 T.W. Alexander Drive PO Box 12014, Research Triangle Park, North Carolina 27709
5481 | Amvac Corporation 4695 Macarthur Court, Suite 1250, Newport Beach, California 92660-1706
72155 | Bayer Advanced 2 T.W. Alexander Drive, PO Box 12014, Research Triangle Park, North Carolina 27709

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Procedures for Withdrawal of Request and Considerations for Reregistration of Disulfoton and Methamidophos

Registrants who choose to withdraw a request for cancellation must submit such withdrawal in writing to the person listed under FOR FURTHER INFORMATION CONTACT, postmarked before August 21, 2009. This written withdrawal of the request for cancellation will apply only to the applicable FIFRA section 6(f)(1) request listed in this notice. If the products have been subject to a previous cancellation action, the effective date of cancellation and all other provisions of any earlier cancellation action are controlling.

VI. Provisions for Disposition of Existing Stocks

Existing stocks are those stocks of registered pesticide products which are currently in the United States and which were packaged, labeled, and released for shipment prior to the effective date of the cancellation action.

In any order issued in response to these requests for cancellation of disulfoton and methamidophos product registrations, EPA proposes to include the following provisions for the treatment of any existing stocks of the products identified or referenced in Table 1 or 2 in Unit III:

Bayer may sell and distribute such existing stocks for registrations 264-725, 264-729, 264-734, 264-741, 264-744, 264-1020, 264-1021, and 432-1286 until December 31, 2010. Bayer may sell and distribute such existing stocks for registration 264-723 and 72155-49 until June 30, 2011. Amvac Chemical Corp. may sell and distribute such existing stocks for registration 5481-8989 until December 31, 2010.

If the request for voluntary cancellation is granted as discussed in this unit, the Agency intends to issue a cancellation order that will allow persons other than the registrant to continue to sell and/or use existing stocks of canceled products until such stocks are exhausted, provided that such use is consistent with the terms of the previously approved labeling on, or that accompanied, the canceled product. The order will specifically prohibit any use of existing stocks that is not consistent with such previously approved labeling. If, as the Agency currently intends, the final cancellation order contains the existing stocks provision just described, the order will be sent only to the affected registrants of the canceled products. If the Agency determines that the final cancellation order should contain existing stocks provisions different than the ones just described, the Agency will publish the cancellation order in the Federal Register.

List of Subjects

Environmental protection, Pesticides and pests.

Dated: July 10, 2009.
R. McNally,
Acting Director, Special Review and Reregistration Division, Office of Pesticide Programs.

[FR Doc. E9-17171 Filed 7-21-09; 8:45 am]

BILLING CODE 6560-50-S